DEPARTMENT OF LABOR

Employment and Training Administration

[TA-W-38,342]

Gulf States Steel, Inc., Gadsden, AL; Notice of Termination of Investigation

Pursuant to Section 221 of the Trade Act of 1974, an investigation was initiated on November 20, 2000 in response to a worker petition which was filed on November 20, 2000 on behalf of workers at Gulf States Steel, Gadsden, Alabama.

Since all workers at the subject firm were separated prior to November 23, 2000, workers are eligible to apply for Trade Adjustment Assistance benefits under a certification which was issued on November 23, 1998, and covered all separations extending through November 23, 2000 (TA-W-35,108). Consequently, further investigation in this case would serve no purpose, and the investigation has been terminated.

Signed in Washington, DC, this 25th day of January, 2001.
Linda G. Poole,
Certifying Officer, Division of Trade Adjustment Assistance.

[FR Doc. 01-5085 Filed 3-1-01; 8:45 am]

BILLING CODE 4510-30-M